DEPARTMENT OF COMMERCE

National Oceanic and Atmospheric Administration

Meeting of the Chairs of the National Marine Sanctuary Program's Sanctuary Advisory Councils

AGENCY: National Marine Sanctuary Program (NMSP), National Ocean Service (NOS), National Oceanic and Atmospheric Administration, Department of Commerce (DOC).

ACTION: Notice.

SUMMARY: The National Marine Sanctuary Program (NMSP) is holding a meeting of the Chairs of its eleven site-specific Sanctuary Advisory Councils (Councils). The purpose of the meeting is to obtain input on the following policy topics: cruise ships, marine reserves, aquaculture and, if time allows, bioprospecting. The NMSP will also provide updates to the Chairs on the following subjects: reauthorization of the National Marine Sanctuaries Act, NMSP Strategic Plan, NMSP policy topics discussed during 2004 meeting, NMSP maritime heritage activities, and NMSP telepresence projects. The meeting will be open to the public. Opportunities for public comment will be provided at 8:45 a.m. and 4 p.m. on a first-come, first-serve basis.

Members of the public wishing to provide comments will be asked to sign up upon arrival and will likely be limited in how much time they will be allotted for comments (depending upon the number of speakers). A maximum of fifteen minutes will be allotted at 8:45 a.m. and again at 4 p.m. for public comments.

DATES: The meeting will be held on Thursday, February 10, 2005, from 8:30 a.m. to 4:15 p.m. Opportunities for public comment will be provided at 8:45 a.m. and 4 p.m.

ADDRESSES: The meeting will be held at The Red Barn, Point Reyes National Seashore HQ/Cordell Bank NMS Office, 1 Bear Valley Road, Olema, CA.

FOR FURTHER INFORMATION CONTACT: Karen Brubeck at (206) 842-6084 or Katen.Brubeck@noaa.gov; or Elizabeth Moore at (301) 713-3125 ext. 170 or Elizabeth.Moore@noaa.gov.

SUPPLEMENTARY INFORMATION: The National Marine Sanctuaries Act (NMSA) authorizes the Secretary of Commerce to establish one or more Advisory Councils to provide advice to the Secretary regarding the designation and management of National Marine Sanctuaries. Eleven Councils exist, for the Channel Islands, Cordell Bank, Florida Keys, Gray's Reef, Gulf of the Farallones, Hawaiian Islands Humpback Whale, Monterey Bay, Olympic Coast, Stellwagen Bank, and Thunder Bay National Marine Sanctuaries and the Northwestern Hawaiian Islands Coral Reef Ecosystem Reserve and proposed Sanctuary. Councils represent a wide variety of community interests and are active in various projects and issues affecting the management of their local Sanctuaries; Councils generally meet on a monthly or bimonthly basis.

Each year, the NMSP hosts a meeting for all the Council Chairs and Coordinators to discuss projects and topics of mutual interest (This meeting will be the fifth such meeting). This year, for the third time, the Chairs are being asked to provide input to the national program leadership on policy topics important on a programmatic rather than a site-specific level. The purpose of the meeting is to hold discussion and obtain input from the Chairs on the following policy topics: cruise ships, marine reserves, aquaculture and, if time allows, bioprospecting. The Chairs will also receive updates on the following items: reauthorization of the National Marine Sanctuaries Act, NMSP Strategic Plan, NMSP policy topics discussed during 2004 meeting, NMSP maritime heritage activities, and NMSP telepresence activities. The meeting will be open to the public. Opportunities for public comment will be provided at 8:45 a.m. and 4 p.m. on a first-come, first-serve basis. The Chairs will provide this advice only during the meeting announced by this notice, and will not become a permanent national advisory body.

Authority: 16 U.S.C. 1431 et seq.

(Federal Domestic Assistance Catalog Number 11.429 Marine Sanctuary Program.)

Daniel J. Basta,
Director, National Marine Sanctuary Program, National Ocean Services, National Oceanic and Atmospheric Administration.

[FR Doc. 04-27741 Filed 12-17-04; 8:45 am]

BILLING CODE 3510-NK-M